DEPARTMENT OF DEFENSE

Department of the Navy

Notice of Availability of Record of Decision for the Virginia Capes Range Complex

AGENCY: Department of the Navy, DoD.

ACTION: Notice.

SUMMARY: The Department of the Navy (Navy), after carefully weighing the operational and environmental consequences of the proposed action, announces its decision to support and conduct current, emerging, and future military readiness activities in the Virginia Capes Range Complex as necessary to achieve and sustain Fleet readiness, including Navy training; Department of Defense or other Federal agency research, development, test, and evaluation activities; and investment in range resources and range infrastructure, all in furtherance of the Navy's statutory obligations under Title 10 of the United States Code governing the roles and responsibilities of the Navy.

The Navy considered applicable laws, regulations, and Executive Orders, including an analysis of the environmental effects of its actions outside the United States or its territories under the provisions of Executive Order (EO) 12114, Environmental Effects Abroad of Major Federal Actions, and the requirements of EO 12898, Federal Actions To Address Environmental Justice in Minority Populations and Low Income Populations. The proposed action will be accomplished as set out in Alternative 2, described in the Final Environmental Impact Statement (FEIS) as the preferred alternative. Implementation of the preferred alternative could begin immediately.

SUPPLEMENTARY INFORMATION: The Record of Decision (ROD) has been distributed to all those individuals who requested a copy of the FEIS and agencies and organizations that received a copy of the FEIS. The complete text of the Navy's ROD is available for public viewing on the project Web site at http://www.vacapesrangecomplexeis.com along with copies of the FEIS and supporting documents. Single copies of the ROD will be made available upon request by contacting the Naval Facilities Engineering Command, Atlantic Division; Attention: Code EV22CK (VACAPES EIS/OEIS PM); 6506 Hampton Blvd; Norfolk, VA 23508-1278; facsimile: 757-322-4894.

Dated: June 8, 2009.
A.M. Vallandingham,
Lieutenant Commander, Judge Advocate General's Corps, U.S. Navy, Federal Register Liaison Officer.

[FR Doc. E9-13742 Filed 6-10-09; 8:45 am]

BILLING CODE 3810-FF-P